DEPARTMENT OF ENERGY

Federal Energy Regulatory Commission

[Docket No. EG10-12-000; EG10-24-000]

Green County Operating Services, LLC; El Cajon Energy, LLC; Notice of Effectiveness of Exempt Wholesale Generator Status

June 18, 2010.

Take notice that during the month of April/May 2010, the status of the above-captioned entities as Exempt Wholesale Generators became effective by operation of the Commission's regulations. 18 CFR 366.7(a).

Kimberly D. Bose,
Secretary.

[FR Doc. 2010-15392 Filed 6-24-10; 8:45 am]

BILLING CODE 6717-01-P